DEPARTMENT OF THE INTERIOR

Bureau of Indian Affairs

Information Collection for Part 23, Payment for Appointment Counsel in Involuntary Child Custody Proceedings in State Courts

AGENCY: Bureau of Indian Affairs, Interior.

ACTION: Notice of renewal and request for comments.

SUMMARY: In compliance with the Paperwork Reduction Act of 1995 this notice announces that the Bureau of Indian Affairs is seeking to extend clearance for an information collection request. The information collection, Payment for Appointment Counsel in Involuntary Child Custody Proceedings in State Courts, is cleared under OMB Control Number 1076-0111. Interested parties are invited to comment on this collection.

DATES: Submit comments on or before August 8, 2003.

ADDRESSES: Written comments should be sent directly to Larry Blair, Bureau of Indian Affairs, Office of Tribal Services, Division of Human Services, 1951 Constitution Avenue, NW., (MS-320-SIB), Washington, DC 20240.

FOR FURTHER INFORMATION CONTACT: Interested persons may obtain copies of the information collection requests without charge by contacting Mr. Larry Blair, (202) 513-7621, Facsimile number (202) 208-2648.

SUPPLEMENTARY INFORMATION:

I. Abstract

A state court that appoints counsel for an indigent Indian parent or Indian custodian in an involuntary Indian child custody proceeding in a State court may send written notice to the Bureau of Indian Affairs (Bureau) when appointment of counsel is not authorized by State law. The cognizant Bureau Regional Director uses this information to decide whether to certify that the client in the notice is eligible to have his counsel compensated by the Bureau in accordance with the Indian Child Welfare Act, Public Law 95-608, 92 Stat. 3069, 25 U.S.C. 1918.

II. Request for Comments

The Department invites comments on:

(1) Whether the collection of information is necessary for the proper performance of the functions of the Bureau, including whether the information will have practical utility;

(2) The accuracy of the Bureau's estimate of the burden of the information collection, including the validity of the methodology and assumptions used;

(3) Ways to enhance the quality, utility, and clarity of the information to be collected; and,

(4) Ways to minimize the burden of the information collection on those who are to respond, including through the use of appropriate automated electronic, mechanical, or other collection techniques or forms of information technology.

Please note, any comments, names and addresses concerning this submission will be available for public review during regular business hours (8 a.m. to 4:30 p.m). If you wish your name and address withheld you must state this prominently at the beginning of your comment. We will honor your request to the extent allowable by law. An agency may not conduct or sponsor, and a person is not required to respond to, a collection of information unless it displays a currently valid OMB control number.

III. Data

Title of the Information Collection: Payment for Appointment Counsel in Involuntary Indian Child Custody Proceedings in State Courts.

Nature of Action: Renewal of 1076-0111.

Summary of Collection of Information: The collection of information will ensure that the provisions of Public Law 95-608 are met.

Affected Entities: State Courts and Individual Indian pursuant to 25 CFR 23.13 in order to obtain a benefit.

Frequency of Response: Annually.

Estimated Number of Annual Responses: 2.

Estimated Time Per Application: 8 hours.

Estimated Total Annual Burden Hours: 16 hours.

Dated: June 2, 2003.
Aurene M. Martin,
Acting Assistant Secretary—Indian Affairs.

[FR Doc. 03-14402 Filed 6-6-03; 8:45 am]

BILLING CODE 4310-4J-P